DEPARTMENT OF ENERGY

Federal Energy Regulatory Commission

Combined Notice of Filings #2

Take notice that the Commission received the following electric rate filings:

Docket Numbers: ER10-3168-015; ER10-2400-005.

Applicants: ArcLight Energy Marketing, LLC, Blue Canyon Windpower LLC.

Description: Notice of Non-Material Change in Status of ArcLight Energy Marketing, LLC, et al.

Filed Date: 11/25/15.

Accession Number: 20151125-5438.

Comments Due: 5 p.m. ET 12/16/15.

Docket Numbers: ER10-3168-016; ER10-2532-005; ER10-2722-005.

Applicants: ArcLight Energy Marketing, LLC, Crescent Ridge LLC, Eurus Combine Hills I LLC.

Description: Notice of Non-Material Change in Status of ArcLight Energy Marketing, LLC, et al.

Filed Date: 11/25/15.

Accession Number: 20151125-5439.

Comments Due: 5 p.m. ET 12/16/15.

Docket Numbers: ER16-404-000.

Applicants: Southern California Edison Company.

Description: § 205(d) Rate Filing: Letter Agreement Silver State Solar Power South, LLC & NEER to be effective 11/26/2015.

Filed Date: 11/25/15.

Accession Number: 20151125-5385.

Comments Due: 5 p.m. ET 12/16/15.

Docket Numbers: ER16-405-000.

Applicants: Allegheny Ridge Wind Farm, LLC.

Description: § 205(d) Rate Filing: Category 2 Seller Notice re NE to be effective 11/26/2015.

Filed Date: 11/25/15.

Accession Number: 20151125-5392.

Comments Due: 5 p.m. ET 12/16/15.

Docket Numbers: ER16-406-000.

Applicants: Aragonne Wind LLC.

Description: § 205(d) Rate Filing: Category 2 Seller re SW to be effective 11/26/2015.

Filed Date: 11/25/15.

Accession Number: 20151125-5393.

Comments Due: 5 p.m. ET 12/16/15.

Docket Numbers: ER16-407-000.

Applicants: Dominion Bridgeport Fuel Cell, LLC.

Description: Compliance filing: Compliance Filing—DBFC Removal of Affiliate Waiver to be effective 11/1/2015.

Filed Date: 11/25/15.

Accession Number: 20151125-5394.

Comments Due: 5 p.m. ET 12/16/15.

Docket Numbers: ER16-408-000.

Applicants: Crescent Ridge LLC.

Description: § 205(d) Rate Filing: Category 2 Seller Notice re NE to be effective 11/26/2015.

Filed Date: 11/25/15.

Accession Number: 20151125-5395.

Comments Due: 5 p.m. ET 12/16/15.

Docket Numbers: ER16-409-000.

Applicants: Buena Vista Energy, LLC.

Description: § 205(d) Rate Filing: Category 2 Seller Notice re SW to be effective 11/26/2015.

Filed Date: 11/25/15.

Accession Number: 20151125-5396.

Comments Due: 5 p.m. ET 12/16/15.

Docket Numbers: ER16-410-000.

Applicants: GSG, LLC.

Description: § 205(d) Rate Filing: Category 2 Seller Notice re NE to be effective 11/26/2015.

Filed Date: 11/25/15.

Accession Number: 20151125-5397.

Comments Due: 5 p.m. ET 12/16/15.

Docket Numbers: ER16-411-000.

Applicants: Kumeyaay Wind LLC.

Description: § 205(d) Rate Filing: Category 2 Seller Notice re SW to be effective 11/26/2015.

Filed Date: 11/25/15.

Accession Number: 20151125-5398.

Comments Due: 5 p.m. ET 12/16/15.

Docket Numbers: ER16-412-000.

Applicants: Mendota Hills, LLC.

Description: § 205(d) Rate Filing: Category 2 Seller Notice re NE to be effective 11/26/2015.

Filed Date: 11/25/15.

Accession Number: 20151125-5399.

Comments Due: 5 p.m. ET 12/16/15.

Docket Numbers: ER16-413-000.

Applicants: NRG Wholesale Generation LP, Seward Generation, LLC.

Description: NRG Wholesale Generation LP and Seward Generation, LLC Joint Request for Waiver and Request for Expedited Consideration.

Filed Date: 11/25/15.

Accession Number: 20151125-5424.

Comments Due: 5 p.m. ET 12/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2015.
Nathaniel J. Davis, Sr.,
Deputy Secretary.

[FR Doc. 2015-30568 Filed 12-2-15; 8:45 am]

BILLING CODE 6717-01-P